DEPARTMENT OF THE INTERIOR

Fish and Wildlife Service

Availability of the Recovery Plan for the Bruneau Hot Springsnail (Pyrgulopsis bruneauensis)

AGENCY: U.S. Fish and Wildlife Service, Interior.

ACTION: Notice of document availability.

SUMMARY: The U.S. Fish and Wildlife (Service) announces the availability of the final recovery plan for the Bruneau hot springsnail (Pyrgulopsis bruneauensis; springsnail). This endangered freshwater snail is a member of the family Hydrobiidae and occurs in a 5-mile reach of the Bruneau River and the lower one-third of Hot Creek in Owyhee County, Idaho.

ADDRESSES: Recovery plans that have been approved by the U.S. Fish and Wildlife Service are available on the World Wide Web at: http://www.r1.fws.gov/ecoservices/endangered/recovery/default.htm. In addition, recovery plans for the springsnail may also be obtained from: Fish and Wildlife Reference Service, 5430 Grosvenor Lane, Suite 110, Bethesda, Maryland 20814, 301-429-6403 or 800-582-3421. The fee for the plan varies.

FOR FURTHER INFORMATION CONTACT: Steven Lysne or Jeri Wood, U.S. Fish and Wildlife Service, Snake River Fish and Wildlife Office, 1387 S. Vinnell Way, Boise, Idaho 83709 (telephone; 208-378-5243).

SUPPLEMENTARY INFORMATION:

Background

Recovery of endangered or threatened animals and plants is a primary goal of the Service's endangered species program. A species is considered recovered when the species' ecosystem is restored and/or threats to the species are removed so that self-sustaining and self-regulating populations of the species can be supported as persistent members of native biotic communities. Recovery plans describe actions considered necessary for the conservation of the species, establish criteria for downlisting or delisting listed species, and estimate the time and cost associated with implementing the measures needed for recovery.

The Endangered Species Act (Act) (16 U.S.C. 1531 et seq.), requires the development of recovery plans for listed species unless such a plan would not promote the conservation of a particular species. Section 4(f) of the Act requires that during recovery plan development, the Service provide public notice and an opportunity for public review and comment. Information presented during the public comment period has been considered in the preparation of this final recovery plan, and is summarized in an appendix to the recovery plan. The Service will forward substantive comments regarding recovery plan implementation to appropriate Federal or other entities so that they can take these comments into account during the course of implementing recovery actions.

The springsnail was listed as endangered on June 17, 1998 (FR 63 32981). This freshwater, aquatic snail exists only in an approximately 5-mile reach of the Bruneau River and its tributary, Hot Creek, in southwestern Idaho. The springsnail inhabits flowing geothermal springs and seeps with temperatures ranging from 15.7 to 36.9 degrees Celsius. The springsnail is found in these habitats on the exposed surfaces of various substrates including rocks, gravel, sand, mud, and algal films. The principal threat to the springsnail is the reduction and/or elimination of their geothermal spring habitat as a result of agricultural groundwater withdrawals.

The objective of this plan is to provide a framework for the recovery of the springsnail so that protection by the Act is no longer necessary. Recovery is contingent upon protecting and managing the remaining springsnail habitat to maintain and enhance viable populations of the springsnail.

The springsnail will be considered for reclassification when: (1) Water levels in the regional geothermal aquifer have increased and stabilized at 815 meters (2,674 feet) in elevation; (2) the total number of geothermal springs discharging within the recovery area is 200 or more and are distributed within the current range of the springsnail; (3) more than two-thirds of available geothermal springs within the recovery area are occupied by stable, medium to high density populations of reproducing hot springsnails; and (4) groundwater levels are permanently protected against further reductions through implementation of groundwater management activities.

Authority

The authority for this action is section 4(f) of the Endangered Species Act, 16 U.S.C. 1533 (f).

Dated: September 30, 2002.
Anne Badgley,
Regional Director, Region 1, U.S. Fish and Wildlife Service.

[FR Doc. 02-30982 Filed 12-6-02; 8:45 am]

BILLING CODE 4310-55-P